DEPARTMENT OF TRANSPORTATION

Federal Aviation Administration

14 CFR Part 39

[Docket No. FAA-2012-0266; Directorate Identifier 2011-NM-061-AD; Amendment 39-17119; AD 2012-14-05]

RIN 2120-AA64

Airworthiness Directives; Airbus Airplanes

AGENCY: Federal Aviation Administration (FAA), Department of Transportation (DOT).

ACTION: Final rule.

SUMMARY: We are adopting a new airworthiness directive (AD) for all Airbus Model A318, A319, and A320 series airplanes. This AD was prompted by reports of unsuccessful slide deployments during scheduled deployment tests, and failed functional tests of the release travel of the slide release mechanism. This AD requires inspecting the off-wing slide release cables on the left- and right-hand sides to determine whether a certain part number is installed, and replacement if necessary. We are issuing this AD to prevent non-availability of left- or right-hand off-wing exit slides that could impair emergency evacuation of the passengers and flightcrew, and could result in personal injuries.

DATES: This AD becomes effective August 21, 2012.

The Director of the Federal Register approved the incorporation by reference of certain publications listed in this AD as of August 21, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Discussion

We issued a Notice of Proposed Rulemaking (NPRM) to amend 14 CFR part 39 to include an AD that would apply to the specified products. That NPRM was published in the Federal Register on March 16, 2012 (77 FR 15636). That NPRM proposed to correct an unsafe condition for the specified products. The MCAI states:

Several operators reported unsuccessful slide deployments during scheduled deployment tests and/or failed functional tests of the release travel of the slide release mechanism.

Investigations revealed deformation of the PTFE (Teflon) ball guide strip of the release cable, Part Number (P/N) L32A319-160-001. In such a situation the travel of the cable could be insufficient to open the valve when opening the exit, thereby reducing the gas flow from the reservoir to the off-wing slide in automatic or manual mode. As a result, the aspirator will not ingest sufficient ambient air for slide inflation.

This condition, if not corrected, could lead to the non-availability of LH [left-hand] and/or RH [right-hand] off-wing exit slides for evacuation that would impair emergency evacuation of the aeroplane occupants, possibly resulting in personal injuries.

For the reasons described above, this [EASA] AD requires the identification [inspection] and replacement of both Left hand (LH) and Right Hand (RH) off-wing slide release cables P/N L32A319-160-001 with P/N L32A320-180, which have precise stainless steel ball bearing stripes instead of stamped PTFE stripes.

You may obtain further information by examining the MCAI in the AD docket.

Comments

We gave the public the opportunity to participate in developing this AD. We considered the comments received.

Support for the Proposed AD (77 FR 15636, March 16, 2012)

United Airlines has no objections to the content of the proposed rule (77 FR 15636, March 16, 2012).

Request To Refer to Revised Service Bulletin

Airbus requested that we revise the NPRM (77 FR 15636, March 16, 2012) to refer to Airbus Mandatory Service Bulletin A320-53-1227, Revision 05, dated March 27, 2012. Airbus also requested that we give credit for actions done using Airbus Mandatory Service Bulletin A320-53-1227, Revision 01, dated May 31, 2010; Revision 02, dated March 10, 2011; Revision 03, dated July 28, 2011; and Revision 04, dated February 14, 2012.

We agree with the request. We have updated paragraphs (g) and (m)(5) of this AD to refer to Airbus Mandatory Service Bulletin A320-53-1227, Revision 05, dated March 27, 2012. We have also revised paragraph (j)(1) of this AD to allow credit for actions done using Airbus Mandatory Service Bulletin A320-53-1227, Revision 01, dated May 31, 2010; Revision 02, dated March 10, 2011; Revision 03, dated July 28, 2011; and Revision 04, dated February 14, 2012. We have re-identified paragraphs (j)(2) through (j)(6) of the NPRM (77 FR 15636, March 16, 2012) as paragraph (j)(2) in this AD, and indicated that the service information in paragraph (j)(2) of this AD provides credit for the actions specified in paragraph (h) of this AD.

Additional Change Made to This AD

Paragraph (g) of the NPRM (77 FR 15636, March 16, 2012) inadvertently referred to paragraph (l) of the NPRM, rather than paragraph (k) of the NPRM, as the exception to the proposed requirements. We have changed paragraph (g) of this AD to refer to paragraph (k) of this AD for the exception.

Conclusion

We reviewed the available data, including the comments received, and determined that air safety and the public interest require adopting the AD with the changes described previously except for minor editorial changes. We have determined that these changes:

• Are consistent with the intent that was proposed in the NPRM (77 FR 15636, March 16, 2012) for correcting the unsafe condition; and

• Do not add any additional burden upon the public than was already proposed in the NPRM (77 FR 15636, March 16, 2012).

Costs of Compliance

We estimate that this AD will affect 694 products of U.S. registry. We also estimate that it will take about 39 work-hours per product to comply with the basic requirements of this AD. The average labor rate is $85 per work-hour. Required parts will cost about $5,750 per product. Where the service information lists required parts costs that are covered under warranty, we have assumed that there will be no charge for these parts. As we do not control warranty coverage for affected parties, some parties may incur costs higher than estimated here. Based on these figures, we estimate the cost of this AD to the U.S. operators to be $6,291,110, or $9,065 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 15636, March 16, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-14-05 Airbus: Amendment 39-17119. Docket No. FAA-2012-0266; Directorate Identifier 2011-NM-061-AD.

(a) Effective Date

This airworthiness directive (AD) becomes effective August 21, 2012.

(b) Affected ADs

None.

(c) Applicability

This AD applies to all Airbus Model A318-111, -112, -121, and -122 airplanes; Model A319-111, -112, -113, -114, -115, -131, -132, and -133 airplanes; and Model A320-111, -211, -212, -214, -231, -232, and -233 airplanes; certificated in any category; all serial numbers.

(d) Subject

Air Transport Association (ATA) of America Code 28: Fuel tanks; 53: Fuselage.

(e) Reason

This AD was prompted by reports of unsuccessful slide deployments during scheduled deployment tests, and failed functional tests of the release travel of the slide release mechanism. We are issuing this AD to prevent non-availability of left- or right-hand off-wing exit slides that could impair emergency evacuation of the passengers and flightcrew, and could result in personal injuries.

(f) Compliance

You are responsible for having the actions required by this AD performed within the compliance times specified, unless the actions have already been done.

(g) Inspection and Modification

Except as provided by paragraph (k) of this AD, within 36 months after the effective date of this AD, inspect the off-wing slide release cables on the left- and right-hand sides to determine whether part number (P/N) L32A319-160-001 is installed. A review of airplane maintenance records is acceptable in lieu of this inspection if the part number of the off-wing slide release cables can be conclusively determined from that review. If any off-wing slide release cable has P/N L32A319-160-001, before further flight, replace with a new off-wing slide release cable having P/N L32A320-180, in accordance with the Accomplishment Instructions of Airbus Mandatory Service Bulletin A320-53-1227, Revision 05, dated March 27, 2012.

(h) Optional Modification

Installation of a shorter off-wing slide release cable having P/N L32A319-160-002 with relocated inflation bottle during installation of the additional center tank, in accordance with the Accomplishment Instructions of the applicable service bulletin identified in paragraphs (h)(1) through (h)(4) of this AD, is acceptable for compliance with the requirements of paragraph (g) of this AD.

(1) Airbus Service Bulletin A320-28-1118, Revision 03, including Appendix 1, dated May 12, 2009.

(2) Airbus Service Bulletin A320-28-1132, Revision 04, including Appendices 1 and 2, dated February 1, 2010.

(3) Airbus Service Bulletin A320-28-1145, Revision 01, including Appendix 01, dated April 27, 2007.

(4) Airbus Service Bulletin A320-28-1154, Revision 01, dated April 7, 2008.

(i) Parts Installation Prohibition

As of the effective date of this AD, no person may install an off-wing slide release cable having P/N L32A319-160-001 on any airplane.

(j) Credit for Previous Actions

(1) This paragraph provides credit for the actions required by paragraph (g) of this AD, if installation of off-wing slide release cables having P/N L32A320-180 was done before the effective date of this AD using the service bulletin identified in paragraphs (j)(1)(i) through (j)(1)(v) of this AD.

(i) Airbus Service Bulletin A320-53-1227, dated March 24, 2010.

(ii) Airbus Service Bulletin A320-53-1227, Revision 01, dated May 31, 2010.

(iii) Airbus Mandatory Service Bulletin A320-53-1227, Revision 02, dated March 10, 2011.

(iv) Airbus Mandatory Service Bulletin A320-53-1227, Revision 03, dated July 28, 2011.

(v) Airbus Mandatory Service Bulletin A320-53-1227, Revision 04, dated February 14, 2012.

(2) This paragraph provides credit for the actions specified in paragraph (h) of this AD, if those actions were performed before the effective date of this AD using the service information specified in paragraphs (j)(2)(i) through (j)(2)(v) of this AD.

(i) Airbus Service Bulletin A320-28-1132, dated October 13, 2004.

(ii) Airbus Service Bulletin A320-28-1132, Revision 01, dated October 12, 2006.

(iii) Airbus Service Bulletin A320-28-1132, Revision 02, dated November 12, 2008.

(iv) Airbus Service Bulletin A320-28-1132, Revision 03, dated October 5, 2009.

(v) Airbus Service Bulletin A320-28-1145, dated February 28, 2006.

(k) Exception

Provided that off-wing slide release cables have not been replaced with a slide release cable having P/N L32A319-160-001, airplanes having Airbus modification 150811, 26138, 37856, or 39673 installed in production are in compliance with the requirements of paragraph (g) of this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

Refer to MCAI European Aviation Safety Agency Airworthiness Directive 2011-0015, dated January 31, 2011, and the service information specified in paragraphs (m)(1) through (m)(5) of this AD, for related information.

(1) Airbus Service Bulletin A320-28-1118, Revision 03, including Appendix 1, dated May 12, 2009.

(2) Airbus Service Bulletin A320-28-1132, Revision 04, including Appendices 1 and 2, dated February 1, 2010.

(3) Airbus Service Bulletin A320-28-1145, Revision 01, including Appendix 01, dated April 27, 2007.

(4) Airbus Service Bulletin A320-28-1154, Revision 01, dated April 7, 2008.

(5) Airbus Mandatory Service Bulletin A320-53-1227, Revision 05, dated March 27, 2012.

(n) Material Incorporated by Reference

(1) The Director of the Federal Register approved the Incorporation by Reference (IBR) of the following service information under 5 U.S.C. 552(a) and 1 CFR part 51.

(2) You must use the following service information to do the actions required by this AD, unless the AD specifies otherwise.

(i) Airbus Mandatory Service Bulletin A320-53-1227, Revision 05, dated March 27, 2012.

(ii) Reserved

(3) If you accomplish the optional actions specified by this AD, you must use the following service information to perform those actions, unless the AD specifies otherwise.

(i) Airbus Service Bulletin A320-28-1118, Revision 03, including Appendix 1, dated May 12, 2009.

(ii) Airbus Service Bulletin A320-28-1132, Revision 04, including Appendices 1 and 2, dated February 1, 2010.

(iii) Airbus Service Bulletin A320-28-1145, Revision 01, including Appendix 01, dated April 27, 2007.

(iv) Airbus Service Bulletin A320-28-1154, Revision 01, dated April 7, 2008.

(4) For service information identified in this AD, contact Airbus, Airworthiness Office—EAS, 1 Rond Point Maurice Bellonte, 31707 Blagnac Cedex, France; telephone +33 5 61 93 36 96; fax +33 5 61 93 44 51; email account.airworth-eas@airbus.com; Internet http://www.airbus.com.

(5) You may review copies of the service information at the FAA, Transport Airplane Directorate, 1601 Lind Avenue SW., Renton, Washington. For information on the availability of this material at the FAA, call 425-227-1221.

(6) You may also review copies of the service information that is incorporated by reference at the National Archives and Records Administration (NARA). For information on the availability of this material at an NARA facility, call 202-741-6030, or go to http://www.archives.gov/federal_register/code_of_federal_regulations/ibr_locations.html.

Issued in Renton, Washington, on June 29, 2012.
Kalene C. Yanamura,
Acting Manager, Transport Airplane Directorate, Aircraft Certification Service.

[FR Doc. 2012-16885 Filed 7-16-12; 8:45 am]

BILLING CODE 4910-13-P